DEPARTMENT OF HEALTH AND HUMAN SERVICES

Centers for Disease Control and Prevention

Clinical Laboratory Improvement Advisory Committee

Correction: This notice was published in the Federal Register on January 31, 2011, Volume 76, Number 20, page 5379. The location of the meeting has changed as follows:

Place: DoubleTree Hotel Atlanta Buckhead, 3342 Peachtree Road, NE., Piedmont Room, Atlanta, Georgia 30326.

Contact Person for Additional Information: Nancy Anderson, Chief, Laboratory Practice Standards Branch, Division of Laboratory Science and Standards, Laboratory Science, Policy and Practice Program Office, Office of Surveillance, Epidemiology and Laboratory Services, Centers for Disease Control and Prevention, 1600 Clifton Road, NE., Mailstop F-11, Atlanta, Georgia 30333; telephone (404) 498-2741; fax (404) 498-2219; or via e-mail at Nancy.Anderson@cdc.hhs.gov.

The Director, Management Analysis and Services Office, has been delegated the authority to sign Federal Register Notices pertaining to announcements of meetings and other committee management activities, for the Centers for Disease Control and Prevention and the Agency for Toxic Substances and Disease Registry.

Dated: February 14, 2011.
Elaine L. Baker,
Director, Management Analysis and Services Office, Centers for Disease Control and Prevention.

[FR Doc. 2011-3707 Filed 2-17-11; 8:45 am]

BILLING CODE 4163-18-P